DEPARTMENT OF LABOR

Employment and Training Administration

Final Methodology for Selecting a Job Corps Center for Closure and Center Selected for Closure: Comments Request

AGENCY: Office of Job Corps, Employment and Training Administration (ETA), Labor.

ACTION: Notice.

SUMMARY: The Employment and Training Administration (ETA) of the U.S. Department of Labor (Department or DOL) issues this notice to announce the Final Methodology for selecting Job Corps Centers for closure and one selected Job Corps center for closure. The Office of Job Corps in ETA published a proposed methodology for selecting centers for closure at 78 FR 2284 on January 10, 2013. We received a total of eighteen (18) public comments in response to this proposal. Based on public comments received, the Office of Job Corps published a revised methodology for selecting centers for closure at 79 FR 36823 on June 30, 2014. A total of eleven (11) public comments were received in response to the second draft methodology. After reviewing all comments, the Department has decided to make no changes to the revised methodology. This notice goes on to describe how the final methodology was used to select Job Corps centers for closure and how based on the application of the final closure methodology, the Treasure Lake Job Corps Center in Indiahoma, Oklahoma, was selected for closure. The methodology is now final, and the Department is not accepting further comments on the methodology. However, the Department requests public comment on the selection of the Treasure Lake Job Corps center for closure.

DATES: To be ensured consideration, comments must be submitted in writing on or before September 26, 2014.

ADDRESSES: You may submit comments, identified by Docket Number ETA-2014-0002, by only one of the following methods:

Federal e-Rulemaking Portal: http://www.regulations.gov. Follow the Web site instructions for submitting comments.

Mail and hand delivery/courier: Submit comments to Lenita Jacobs-Simmons, Acting National Director, Office of Job Corps (OJC), U.S. Department of Labor, Employment and Training Administration, 200 Constitution Avenue NW., Room N- 4459, Washington, DC 20210. Due to security-related concerns, there may be a significant delay in the receipt of submissions by United States Mail. You must take this into consideration when preparing to meet the deadline for submitting comments. The Department will post all comments received on http://www.regulations.gov without making any changes to the comments or redacting any information, including any personal information provided. The http://www.regulations.gov Web site is the Federal e-rulemaking portal and all comments posted there are available and accessible to the public. The Department recommends that commenters not include personal information such as Social Security Numbers, personal addresses, telephone numbers, and email addresses in their comments that they do not wish to be made public, as such submitted information will be available to the public via the http://www.regulations.gov Web site. Comments submitted through http://www.regulations.gov will not include the email address of the commenter unless the commenter chooses to include that information as part of his or her comment. It is the responsibility of the commenter to safeguard personal information.

Instructions: All submissions received should include the Docket Number for the notice: Docket Number ETA-2014-0002. Please submit your comments by only one method. Again, please note that due to security concerns, postal mail delivery in Washington, DC may be delayed. Therefore, the Department encourages the public to submit comments on http://www.regulations.gov.

Docket: All comments on the selected Job Corps Center for closure will be available on the http://www.regulations.gov Web site. The Department also will make all of the comments it receives available for public inspection by appointment during normal business hours at the above address. If you need assistance to review the comments, the Department will provide appropriate aids such as readers or print magnifiers. The Department will make copies of this final methodology and the selected Job Corps center for closure available, upon request, in large print and electronic file on computer disk. To schedule an appointment to review the comments and/or obtain the notice in an alternative format, contact the Office of Job Corps at (202) 693-3000 (this is not a toll-free number). You may also contact this office at the address listed below.

FOR FURTHER INFORMATION CONTACT: Lenita Jacobs-Simmons, Acting National Director, Office of Job Corps, ETA, U.S. Department of Labor, 200 Constitution Avenue NW., Room N-4463, Washington, DC 20210; Telephone (202) 693-3000 (this is not a toll-free number). Individuals with hearing or speech impairments may access the telephone number above via TTY by calling the toll-free Federal Information Relay Service at 1-(877) 889-5627 (TTY/TDD).

SUPPLEMENTARY INFORMATION:

Background: Established in 1964, Job Corps is a national program administered by the Employment and Training Administration (ETA) in the Department of Labor (DOL or Department). It is the nation's largest federally-funded, primarily residential training program for at-risk youth, ages 16-24. With 125 centers in 48 states, Puerto Rico, and the District of Columbia, Job Corps provides economically-disadvantaged youth with the academic, career technical, and employability skills to enter the workforce, enroll in post-secondary education, or enlist in the military.

Large and small businesses, nonprofit organizations, and Native American tribes manage and operate 97 of the Job Corps centers through contractual agreements with the Department of Labor following competitive procurement, while 28 centers are operated through an interagency agreement with the U.S. Department of Agriculture (USDA). Job Corps also receives annual Construction, Rehabilitation, and Acquisition (CRA) funding to build, maintain, expand, or upgrade new and existing facilities at all 125 centers.

Pursuing Performance Excellence

The decision to close any chronically low-performing centers identified by the final methodology is part of an effort by the Department to reform and improve the Job Corps program in order to obtain better outcomes for students. Job Corps is a cost-intensive training program, and the Department is seeking to ensure that those resources are used to deliver the best possible results for students. As part of this strategy, the Department believes it should no longer invest in centers that have demonstrated chronic low performance.

The Department expects to maintain the overall level of enrolled students throughout any closure process, and intends to reinvest savings from closure in serving students at higher-performing centers. In addition, Job Corps students in a chronically low-performing center will have the opportunity to either complete their training and graduate while the center remains open or transfer to higher-performing centers if additional time is needed to complete their training. The Department believes it is critical to ensure that the program's resources are deployed in a manner that maximizes results for students.

It is important to note that the Department, in making decisions on center closures, will maintain at least one Job Corps center in each state, the Commonwealth of Puerto Rico and the District of Columbia. (The Department is in the process of opening new centers in Wyoming and New Hampshire, the two states currently without centers.) In addition, the methodology set forth in this notice permits the Department to take into consideration whether a center's closure would have a disproportionate impact on students in any one state.

The Department's ambitious reform agenda for Job Corps was discussed in the June 30, 2014, Federal Register Notice. As part of this reform agenda, Job Corps continues to undergo a rigorous and comprehensive review of its operations and management to identify changes that can be made to improve the program's effectiveness and efficiency. These changes include, but are not limited to, setting higher standards for all centers, identifying chronically underperforming centers, and implementing appropriate corrective actions, which may include closure.

For the purpose of identifying chronically low-performing centers as candidates for closure, DOL has defined “chronically low-performing centers” as those that consistently lagged in overall performance over the past five consecutive program years without evidence of significant recent performance improvement.

Process for Selecting Job Corps Centers for Closure

On August 14, 2012, the Office of Job Corps hosted a national Job Corps listening session, via webinar, with the Job Corps community to solicit input on the methodology factors. More than 100 Job Corps stakeholders participated in the session and provided criteria-related suggestions in the areas of performance, geographic location, local economic impact, contract budgets, facilities, and the time period for evaluating chronic low performance.

On January 10, 2013, the Office of Job Corps published a Federal Register Notice requesting public comments on a proposed methodology for selecting Job Corps centers for closure (78 FR2284). A total of 18 public comments were received, which we reviewed and analyzed. As a result of this analysis, DOL revised the methodology factors for selection of Job Corps centers for closure. The Office of Job Corps also proposed additional considerations for inclusion as factors in the methodology.

On June 30, 2014, the Office of Job Corps published a second Federal Register Notice requesting public comments on a revised methodology for selecting Job Corps centers for closure (79 FR 36823). The comment period for the June 30, 2014 Federal Register Notice was open from June 30, 2014 to July 21, 2014.

Eleven public comments were received in response to the revised methodology for selecting Job Corps centers for closure. The Department considered these comments when finalizing the closure methodology. The comments are summarized and discussed below.

Three commenters expressed concern that the proposed methodology looks at a center's performance relative to other centers rather than the center's performance relative to its performance goals. The first commenter noted that low performance remains undefined, stating that looking at a center's performance relative to other centers could result in the closure of a center that has met its assigned performance goals. The two other commenters also expressed concern that a center could be positively evaluated by the Department yet still be closed due to its relative performance.

Job Corps' Outcome Measurement System (OMS) has always used absolute ratings and relative rankings. While we acknowledge the commenters' concerns, as noted in the previous Federal Register notices, the commenters' concerns are theoretical in nature and do not apply to the centers at the bottom of the rankings. The centers at the bottom of the rankings consistently did not, in fact, meet their performance goals. Moreover closing a center whose performance unfavorably compares with other centers, and reassigning the students to higher performing centers, allows the Department to more efficiently allocate its resources and maximize student outcomes. We believe that this approach is fair, as this methodology evaluates every center against the same measures, goals, and weight structures for every program year, and is largely based on the OMS, which is well known to the Job Corps community. Through this methodology, DOL was able to identify the center that consistently demonstrated the lowest performance outcomes (ratings) from Program Year (PY) 2008 to PY 2012.

DOL received a similar comment stating that performance improvement should be defined independent of other centers' performance. The commenter noted that under the methodology a center could meet its performance goals and still be selected for closure. For the reasons discussed above, we believe that using a center's relative ranking rather than absolute performance best accomplishes the Department's goals of efficiently allocating resources to maximize student outcomes. Moreover, those centers at the very bottom of the rankings have been chronically unable to achieve their performance goals, and have consistently underperformed the average performance of the rest of the system.

DOL received one comment stating that five years (one two-year contract term, plus 3 option years) is too short a period to make a final determination that a center's low performance is chronic and cannot be corrected and improved. As noted in the June 30, 2014 Federal Register Notice, DOL selected the five-year performance period because it is long enough to incorporate both the most recent performance data and relatively older data; allows enough time to analyze impact of any Performance Improvement Plans (PIPs); provides a stable basis for comparison, since the OMS had no significant changes over the past five years; and relies on published outcomes that are familiar to the Job Corps community. The Department, in its June 30 notice, also addressed this concern in responding to a comment that suggested that a ten-year, rather than five-year, period be used. While noting that different options were considered in developing the methodology, the Department stated that a five- year period provides a sufficient basis to assess a center's performance, and that the stability of the OMS for the previous five years provides a fair comparison of center performance that relies upon more recent information. Ultimately, the Department believes that looking at a five-year period of performance, particularly when paired with greater weighting of more recent years, most effectively ensures that Job Corps participants are receiving the highest quality services while taking an operator's efforts to improve performance into account. Accordingly, we have decided to retain the proposed definition of chronically low-performing centers as measured over a five-year period.

DOL received one comment stating that center performance analysis must consider the impact and effectiveness of the center's Outreach and Admissions (OA) and Career Transition Services (CTS) contractors. The commenter argued that a center's OMS and On-Board Strength (OBS) ratings could be adversely affected by the performance of the OA and CTS contractors. This could, according to the commenter, lead to a situation where a center is selected for closure because of factors outside of its control.

The Department understands the commenter's concern, and acknowledges that a center should not be held solely responsible for factors independent of its operations. In recognition of that concern, the proposed weight of the OBS factor in the June 30, 2014, Federal Register Notice was reduced from 20% to 5%. As stated in the June 30, 2014, Federal Register Notice, the Department has determined that OBS should remain a factor and that 5% is the appropriate weighting. In addition to OA services, a center's OBS can also be adversely affected by a center's performance. For example, students may be more likely to drop out of a center if it has low-quality programs or has poor control over student discipline on center. With regard to the commenter's concern about the performance of the CTS contractor affecting a center's performance, the Department believes CTS is a small factor in a center's overall performance rating. The Department believes the same performance factors that the program has historically used over time are the most transparent and equitable means of evaluating performance in this circumstance.

Three commenters noted that the Department should consider the effect of the recent passage of the Workforce Innovation and Opportunity Act (WIOA) of 2014 on the methodology. The first commenter noted that DOL now has the tools necessary to improve performance at Job Corps centers, regardless of location. Two commenters noted that WIOA expands the ability of the Department to take action necessary to improve performance at underperforming centers. The second and third commenters suggested that there may be considerable costs for DOL associated with the closure of Job Corps centers that may be better used to improve the performance of the centers slated for closure in accordance with the recently passed WIOA.

While WIOA contains new provisions that stipulate a specific time by which a center's operator must change because of underperformance, the actions available to Job Corps to improve performance at a center under WIOA are consistent with those in the Workforce Investment Act (WIA). Waiting until WIOA takes effect on July 1, 2015 rather than taking action now will adversely affect those students who would receive a higher quality education and training experience if they had the opportunity to be served instead by a higher performing center. In response to the second and third commenters, the Department reiterates its position that center closure is part of Job Corps' reform agenda, and centers are being considered for closure solely on the basis of performance. Cost was not a factor in the proposed methodology for selecting centers for closure. Moreover, as noted above, the Department is focused on the longer-term cost-efficiencies that will result from getting better results for students with the limited federal funds made available for the program each year. Finally, we note that the Job Corps reform agenda and WIOA are ultimately focused on improving performance and achieving better outcomes. The Department believes that implementing its reform agenda while implementing WIOA will most effectively achieve the goals of both and lead to the greatest performance improvements across the Job Corps system. As new performance data becomes available, the Department will continue to consider the closure of Job Corps Centers as an option where warranted and as consistent with applicable law, including the amendments contained in the Workforce Innovation and Opportunity Act.

One commenter expressed concern that closing centers is not an effective way to reduce program costs, and that measures to reduce costs over the past two years had a direct impact on students and the services provided to them. The mission of the Job Corps program is to provide economically-disadvantaged youth with the academic, career and technical, and employability skills to enter the workforce, enroll in post-secondary education, or enlist in the military. To achieve that result, it must ensure that centers are performing at the highest possible level of performance to continue to be funded. Center closure considerations and the closure methodology are based on performance, not cost savings. As stated above, closing a center whose performance unfavorably compares with other centers, and reassigning the students to higher performing centers, allows the Department to more efficiently allocate its resources and maximize student outcomes.

Three commenters expressed concern about the Department's decision to use data from PY 2011 and 2012. One commenter expressed concern that actions taken by centers at the behest of DOL during these program years, such as hiring freezes, could, at least in part, account for negative performance during that time period. The commenter further expressed concern that different cuts were imposed on Civilian Conservation Centers than were imposed on contract centers that almost certainly impacted their relative performance. The second commenter noted that the methodology uses data from program years when the program experienced budget shortfalls necessitating a system-wide enrollment freeze and a hiring freeze and layoffs at centers. The commenter believes that use of data from these years will result in a flawed assessment that does not accurately reflect the performance of individual centers.

While the methodology uses data from these two program years, which included the program adjustments identified by the commenters, the Department does not believe that use of this data is prejudicial. The impact of the budget constraints and enrollment freeze were spread evenly and equally across the entire Job Corps system. Despite the programmatic adjustments that were made by the Department in the referenced years, the performance results in PY 2012 and PY 2011 were actually better than PY 2010 on most of the program's performance measures. Rather than have a negative effect on performance, the program adjustments were followed by generally better performance outcomes for the entire system. Students received more concentrated services and had better outcomes during the period of the enrollment suspension. In addition, the center rankings did not change materially during this period.

One commenter stated that while the draft methodology provides protection for states with only a single center, it is silent with respect to states that send students outside of their state due to lack of training slots, and that consideration should be made to centers in states that enroll significantly higher numbers of students compared to slot capacity. While the commenter's concern regarding enrollment relative to slot capacity is reflected in the inclusion of OBS as one of the primary criteria in the closure methodology, the Department did not include the number of students from the state as part of the proposed methodology. DOL expects a center will perform well and produce good outcomes with the students that it receives, regardless of the student's state of origin.

One commenter stated that in recent years the Federal government has made substantial capital investments in the Job Corps program and its centers through the American Recovery and Reinvestment Act (ARRA). Due to the scale of these construction projects, the commenter believes that many are just being completed and are not captured in the Facility Condition Index (FCI) scores. The Department agrees there will always be ongoing construction projects that will not be reflected in the most current snapshot of FCI results. The Department believes that the reduction of the FCI weighting factor from 10% to 5%, as discussed in the June 30 Notice, balances the importance of the Department's investments in center facilities with the realization that a center's FCI score is not entirely under the control of center operators. Accordingly, the Department has decided not to take further action regarding the FCI criteria.

Four commenters requested that DOL consider the impact of closing a center on the local economy and take it into account. The Department recognizes the beneficial effects of a center's operation on a given local area, and that closing such a center may affect that local economy. However, the core mission of the Job Corps program is to train students to become more employable, responsible, and productive citizens. The Department's intent is to ensure high-quality training for America's youth by improving performance of the entire training system. The center closure methodology is based on the overall performance of centers considered for closure, and economic impact was not a factor in determining a center's performance.

Several commenters provided comments related to the operation and management of individual centers and program budgetary constraints. To the extent that these comments did not address any changes to the proposed methodology, they were noted as received but outside the scope of the requested response to the proposed methodology.

Final Methodology for Selecting a Job Corps Center for Closure

Provided below is a description of the final methodology:

As the Department proposed in both the January 10, 2013 Federal Register Notice and June 30, 2014 Federal Register Notice, DOL used the following primary criteria against which all centers were measured:

1. Five-year OMS performance level;

2. Five-year OBS; and

3. Five-year FCI.

After ranking the centers based on the primary criteria, DOL then applied the following additional considerations:

1. Continued availability of Job Corps services in each state, the District of Columbia, and Puerto Rico;

2. Sufficiency of data available to evaluate center performance over five years;

3. Indication of significant recent performance improvement; and

4. Job Corps' continuing commitment to diversity.

1. Five-Year Performance Levels

Given that the Job Corps' performance metrics provide a comprehensive assessment of center performance, allow for comparison of performance among centers, and supply enough data for decision makers to determine trends over time, the OMS performance data are the primary factor in selecting a center for closure. The Department believes this approach is the most equitable and transparent for both stakeholders and the public, as these published performance metrics have driven center performance and programmatic decisions for over a decade.

The Department used the final closure methodology to evaluate each center's overall OMS ratings for five full program years to derive a weighted five-year average performance rating. The final methodology uses OMS performance data for PY 2008-2012, with recent years receiving a greater weight than earlier years. Further, the original OMS ratings for each of the five program years, which exceeded 100% for some centers, were normalized at one hundred percent (100%) to be consistent with OBS and FCI. “Normalized” means the data has been placed on a 100-point scale. The calculation formula for the final methodology also contains normalized data for OMS.

The year-by-year weighted structure is as follows:

PY 2012 30%

PY 2011 25%

PY 2010 20%

PY 2009 15%

PY 2008 10%

Total: 100%

The calculation formula for five-year performance for the final closure methodology is as follows:

Center's Five-Year Weighted Average Rating × 90% = Overall Performance Rating

2. On-Board Strength

On-Board Strength is an efficiency rating that demonstrates the extent to which a center operates at full capacity. The measure is reported as a percentage, calculated by the actual slot capacity divided by the planned slot capacity (daily number of students that a center is authorized to serve). The national goal for OBS is 100% in order to operate the program at full capacity, maximize program resources, and fulfill the mission of serving the underserved student population.

This criterion of the methodology evaluates each center's end of Program Year OBS rating for five full program years to derive a five-year average rating. As explained above in the context of OMS data, the June 30, 2014, Federal Register Notice proposed that the revised closure methodology would use OBS data from the five-year period of PY 2008-2012. As noted in the June 30, 2014, Federal Register Notice, the May 31, 2012 PY-COBS report will be used as the basis for assessing center-level OBS performance for PY 2011. The January 31, 2013, PY-COBS report will be used as the basis for assessing center-level OBS performance for PY 2012.

The final closure methodology weights each of the five program year's OBS data, with recent years receiving more weight to incorporate performance improvement. Finally, the OBS ratings for each of the five program years were normalized at one hundred percent (100%) so as to be consistent with the OMS and FCI data.

The year-by-year weighted structure is as follows:

PY 2012 30%

PY 2011 25%

PY 2010 20%

PY 2009 15%

PY 2008 10%

Total: 100%

The calculation formula for five-year OBS for the final closure methodology is as follows:

Center's Five-Year Weighted Average Cumulative OBS × 5% = Overall OBS Rating

3. Facility Condition and Physical Plant

For a program that operates 24 hours per day, seven days per week and is primarily residential, facility conditions are important. The quality of Job Corps' residential and learning facilities has a direct impact on students' experiences and, ultimately, their educational achievement. Each Job Corps center is a fully operational complex with academic and career technical training facilities, dining and recreation buildings, administrative offices, and residence halls (with the exception of solely non-residential facilities), including the surrounding owned or leased property on which the center is located.

To properly manage the program's facility and condition needs, Job Corps uses the FCI and gives each center an annual rating. This rating, which is expressed as a percentage, accounts for the value of a center's construction, rehabilitation, and repair backlog, as compared to the replacement value of the center's facilities. Facility condition affects the outcomes of the Job Corps program because good outcomes begin with facilities that contribute to a safe learning environment.

For this factor, the Department evaluated each center's PY 2008-PY 2012 FCI, which takes into account all construction projects completed over the same five-year period as the other two factors.

As with the performance and OBS criteria, the final closure methodology applies weights to each of the five program year's FCI data, with recent years receiving more weight to incorporate any recent improvement. The year-by-year weighted structure is as follows:

PY 2012 30%

PY 2011 25%

PY 2010 20%

PY 2009 15%

PY 2008 10%

Total: 100%

The calculation formula for FCI for the final closure methodology is as follows:

Center's Five-Year Weighted Average FCI Rating × 5% = Overall FCI Rating Ranking Centers for Closure

Applying the factors above yielded an overall rating for each center. This allowed DOL to create a list that ranked all centers based on historical performance, with the lowest performing center receiving the lowest rating. The calculation formula for the final methodology is as follows:

Overall OMS Performance Rating (90%) | + | Overall OBS Rating (5%) | + | Overall FCI Rating (5%) | = | Overall Rating for Primary Selection Factors.

4. Other Considerations Included in the Final Closure Methodology

In addition to the methodology described above, the Department will utilize the following additional criteria:

a. Job Corps Services in Each State, Puerto Rico, and the District of Columbia. The Department is committed to providing services in a broad geographic area. In implementing the methodology, DOL ensured that it maintained at least one Job Corps center in each state, the Commonwealth of Puerto Rico, and the District of Columbia, and took into consideration whether a center's closure would have a disproportionate impact on the training opportunities for students in any one state.

b. Sufficiency of Data Available to Evaluate Center Performance. The centers in Ottumwa, Milwaukee, Pinellas, Denison, Long Beach, Gulfport and New Orleans are not included for consideration for closure. For each of these centers, there is not enough OMS data to evaluate the center's performance over the full five-year performance period. The reasons for the lack of five years' continuous data for these centers include: New centers were opened during the five-year performance period (Ottumwa and Milwaukee); centers were excluded from OMS evaluation because of their selection as Center for Excellence (CFE) pilot sites (Pinellas County, Denison, and Long Beach); and centers were temporarily closed because of damage received during Hurricane Katrina (Gulfport and New Orleans).

c. Indication of Significant Recent Performance Improvement. The Department determined that performing in the top half of centers in PY 2013 should be taken as evidence of significant recent performance improvement. Therefore, a center was removed from closure consideration if it demonstrated significant improvement in PY 2013, the most recent full year of performance data.

d. Job Corps' Commitment to Diversity. Job Corps currently serves a diverse student population and remains committed to serving disadvantaged youth from all backgrounds. In making final closure decisions, we considered whether a center's closure would result in a significant reduction in student diversity within the overall Job Corps system.

Job Corps Center Selected for Closure

Chronic underperformance in a center, despite repeated and varied efforts by the Department to improve its performance, is a circumstance that cannot be allowed to persist. Closing such a center not only allows the program to better serve the nation's youth in acquiring career skills through quality job training, but also results in a more effective use of the program's resources.

Based on the final closure methodology and the additional considerations described above, the Treasure Lake Job Corps center has been selected for closure.

In applying the final closure methodology, the Department first calculated the five-year OMS performance level, the five-year OBS, and the five-year FCI and then calculated the Overall Rating for Primary Selection Factors, as described above. Treasure Lake clearly received the lowest Overall Rating for Primary Selection Factors and, therefore, the lowest ranking. After ranking the centers based on the primary criteria, the Department then applied the additional considerations and determined that none of the additional considerations prevented the selection of Treasure Lake for closure. The Department is requesting public comments on the Treasure Lake Job Corps center's selection for closure.

The Department will implement the closure process pursuant to the center closure requirements outlined in the WIA at section 159(g) and as stipulated in the DOL/USDA Interagency Agreement.

The Process for Closing Job Corps Centers, as Outlined in the Workforce Investment Act

The Department will ensure that our process for closing Job Corps centers will follow the requirements of section 159(g) of the WIA, which include the following:

• The proposed decision to close a particular center is announced in advance to the general public through publication in the Federal Register or other appropriate means;

• A reasonable comment period, not to exceed 30 days, is established for interested individuals to submit written comments to the Secretary; and

• The Member of Congress who represents the district in which such center is located is notified within a reasonable period of time in advance of any final decision to close the center.

This Notice serves as the public announcement of the decision to close Treasure Lake. The Department is providing a 30-day period for interested individuals to submit written comments on the decision.

Portia Wu,
Assistant Secretary for Employment and Training.

[FR Doc. 2014-20334 Filed 8-26-14; 8:45 am]

BILLING CODE 4510-FT-P